DEPARTMENT OF DEFENSE

Department of the Army

Availability for Non-Exclusive, Exclusive, or Partially Exclusive Licensing of U.S. Patent Concerning Mutants of Brucella Melitensis

AGENCY: Department of the Army, DoD.

ACTION: Notice.

SUMMARY: In accordance with 37 CFR 404.6, announcement is made of the availability for licensing of U.S. Patent No. 5,939,075 entitled “Mutants of Brucella Melitensis” issued August 17, 1999. The United States Government as represented by the Secretary of the Army has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The vaccines are prepared by isolating the Brucella genes complementing mutations in the purEK genes of Escherichia coli, physically mapping, determining the DNA sequence, constructing a defined deletion mutation by polynucleotide chain reaction (PCR), introducing a selectable marker into the deletion, and then selecting a purE mutant in Brucella arising by allelic exchange. The resulting Brucella require purines for growth because they lack the pure gene product that is required for the carboxylation of 5′-phosphoribosyl-5-aminoimidazole.

Luz D. Ortiz,
Army Federal Register Liaison Officer.

[FR Doc. 02-5249 Filed 3-5-02; 8:45 am]

BILLING CODE 3710-08-M